DEPARTMENT OF HOMELAND SECURITY

Coast Guard

[Docket No. USCG-2014-0526]

Imposition of Conditions of Entry for Certain Vessels Arriving to the United States From Cambodia

AGENCY: Coast Guard, DHS.

ACTION: Notice.

SUMMARY: The Coast Guard announces that it is removing the exemption from conditions of entry on vessels arriving in the U.S. from certain ports in Cambodia and will impose conditions of entry on all vessels arriving from Cambodian ports. This notice promotes the Coast Guard's maritime security mission.

DATES: The policy announced in this notice will become effective September 29, 2014.

FOR FURTHER INFORMATION CONTACT: For information about this document call or email Michael Brown, International Port Security Evaluation Division, United States Coast Guard, telephone 202-372-1081. For information about viewing or submitting material to the docket, call Cheryl Collins, Program Manager, Docket Operations, telephone 202-366-9826, or toll free 1-800-647-5527.

SUPPLEMENTARY INFORMATION:

Discussion

The authority for this notice is 5 U.S.C. 552(a), 46 U.S.C. 70110, and Department of Homeland Security Delegation No. 0170.1(II)(97)(f). As delegated, section 70110 authorizes the Coast Guard to impose conditions of entry on vessels arriving in U.S. waters from ports that the Coast Guard has not found to maintain effective anti-terrorism measures.

In October 2008, we found that ports in Cambodia, with certain exceptions, did not maintain effective anti-terrorism measures. Accordingly, the Coast Guard imposed conditions of entry on certain vessels arriving to the United States from Cambodian ports (73 FR 63499, Oct. 24, 2008). The notice exempted two ports from conditions of entry: Phnom Penh Autonomous Port and Sihanoukville Autonomous Port. We no longer find that those two ports are maintaining effective anti-terrorism measures, and we remove their exemption.

Accordingly, beginning September 29, 2014, the conditions of entry shown in Table 1 will apply to any vessel that visited any Cambodian port in its last five port calls.

Table 1—Conditions of Entry for Vessels Visiting Cambodian Ports
Number | Each vessel must:
1 | Implement measures per the vessel's security plan equivalent to Security Level 2 while in a port in Cambodia. As defined in the ISPS Code and incorporated herein, “Security Level 2” refers to the “level for which appropriate additional protective security measures shall be maintained for a period of time as a result of heightened risk of a security incident.”
2 | Ensure that each access point to the vessel is guarded and that the guards have total visibility of the exterior (both landside and waterside) of the vessel while the vessel is in ports in Cambodia.
3 | Guards may be provided by the vessel's crew; however, additional crewmembers should be placed on the vessel if necessary to ensure that limits on maximum hours of work are not exceeded and/or minimum hours of rest are met, or provided by outside security forces approved by the vessel's master and Company Security Officer. As defined in the ISPS Code and incorporated herein, “Company Security Officer” refers to the “person designated by the Company for ensuring that a ship security assessment is carried out; that a ship security plan is developed, submitted for approval, and thereafter implemented and maintained and for liaison with port facility security officers and the ship security officer.”
4 | Attempt to execute a Declaration of Security while in a port in Cambodia;
5 | Log all security actions in the vessel's security records; and
6 | Report actions taken to the cognizant Coast Guard Captain of the Port (COTP) prior to arrival into U.S. waters.
7 | In addition, based on the findings of the Coast Guard boarding or examination, the vessel may be required to ensure that each access point to the vessel is guarded by armed, private security guards and that they have total visibility of the exterior (both landside and waterside) of the vessel while in U.S. ports. The number and position of the guards has to be acceptable to the cognizant COTP prior to the vessel's arrival.

The following countries currently do not maintain effective anti-terrorism measures and are therefore subject to certain conditions of entry: Cambodia, Cameroon, Comoros, Cote d'Ivoire, Cuba, Equatorial Guinea, Guinea-Bissau, Iran, Liberia, Madagascar, Nigeria, Sao Tome and Principe, Syria, Timor-Leste, Venezuela, and Yemen. This list is also available in a policy notice available at https://homeport.uscg.mil under the Maritime Security tab; International Port Security Program (ISPS Code); Port Security Advisory link.

Dated: August 15, 2014.
Charles D. Michel,
Vice Admiral, USCG, Deputy Commandant for Operations.

[FR Doc. 2014-21998 Filed 9-12-14; 8:45 am]

BILLING CODE 9110-04-P